FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 26, 2001.

A. Federal Reserve Bank of Boston (Richard Walker, Community Affairs Officer) 600 Atlantic Avenue, Boston, Massachusetts 02106-2204:

1. John D. Doherty, Somerville, Massachusetts; to acquire additional voting shares of Central Bancorp, Inc., Somerville, Massachusetts, and thereby acquire shares of Central Co-Operative Bank, Somerville, Massachusetts.

B. Federal Reserve Bank of St. Louis (Randall C. Sumner, Vice President) 411 Locust Street, St. Louis, Missouri 63166-2034:

1. William Thomas Robertson, Jr., Indianola, Mississippi; to retain voting shares of Planters Holding Company, Indianola, Mississippi, and thereby indirectly retain voting shares of Planters Bank & Trust Company, Indianola, Mississippi.

C. Federal Reserve Bank of Kansas City (Susan Zubradt, Assistant Vice President) 925 Grand Avenue, Kansas City, Missouri 64198-0001:

1. Joseph D. Freund Irrevocable Trust, the Duane M. Freund Irrevocable Trust, the Kenneth J. Freund Irrevocable Trust, the Michael R. Freund Irrevocable Trust, all of Aurora, Colorado, and the following individuals who serve as co-trustees of one or more of the trusts: Joseph Freund, Jr., Elizabeth, Colorado, Richard Campbell, Denver, Colorado, Laura Freund Buddington, Denver, Colorado, Scott Freund, Elizabeth, Colorado, Phillip Pasion, Parker, Colorado, Angela Freund Bennett, Denver, Colorado, and Kenneth Freund, Jr, Aurora, Colorado, to retain voting shares of Commerce Bankshares, Inc., Aurora, Colorado, and thereby indirectly retain voting shares of Commerce Bank, Aurora, Colorado.

Board of Governors of the Federal Reserve System, September 6, 2001.
Robert deV. Frierson,
Deputy Secretary of the Board.

[FR Doc. 01-22816 Filed 9-11-01; 8:45 am]

BILLING CODE 6210-01-S